DEPARTMENT OF THE INTERIOR

Bureau of Land Management

[UT-080-1310-DO]

Inland Resources, Inc. Monument Butte-Myton Bench Oil Field Development, Duchesne and Uintah Counties, UT, Intent To Prepare an Environmental Impact Statement

AGENCY: Bureau of Land Management, Vernal Field Office, Interior.

ACTION: Notice of Intent to prepare an Environmental Impact Statement (EIS) on the Inland Resources, Inc. Monument Butte-Myton Bench Oil Field Development, Duchesne and Uintah Counties, Utah.

SUMMARY: Pursuant to section 102 (2) (C) of the National Environmental Policy Act of 1969, the Bureau of Land Management (BLM), Vernal Utah Field Office will be writing an EIS on proposed expansion of existing oil field development operations. The EIS area encompasses approximately 65,500 acres in the greater Monument Butte-Myton Bench oil and gas production region. The project is located primarily on BLM administered lands (59,757 acres). The project area also includes lands administered by the State of Utah (5,777 acres), and several private landowners (41 acres). Inland operates the majority of the mineral lease rights underlying both the public and private lands.

As part of a successful application of waterflood technology, the proponent proposed to expand its waterflood operations by drilling 600 to 900 additional wells within the Monument Butte-Myton Bench oil field through the year 2015. Based on a 40 acre spacing pattern, Inland Resources, Inc. would drill approximately 50 percent of the wells as producing wells and 50 percent as water injection wells. The water injection wells would allow reservoir pressure to be managed and oil recovery to be maximized. Estimated new surface disturbance for the project would include 1,710 acres. The existing road network within the project area would provide the primary access routes to the new well sites. No additional compression facilities is expected to be required to accommodate the new wells.

Major issues include potential impacts to status plants and animals, air quality, and soils. Alternatives identified at this time include the proposed action and the no action alternatives.

DATES: This notice announces the public scoping process. Comments on issues can be submitted in writing to the address listed below. All public meetings will be announced through the local news media, and the BLM Vernal Field Office web site (www.blm.gov/utah/vernal) at least 15 days prior to the event.

Public Participation: Public meetings will be held during the scoping period. In order to ensure local community participation and input, public meeting locations will be in Duchesne and Uintah Counties, Utah. In addition, formal opportunities for public participation will be provided through comment on the alternatives and upon publication of the BLM draft EIS.

ADDRESSES: Written comments should be sent to the Environmental Coordinator, Bureau of Land Management, Vernal Field Office, 170 South 500 East, Vernal, Utah 84078; Fax 435-781-4410. Documents pertinent to this proposal may be examined at the Vernal Field Office located in Vernal, Utah. Comments, including names and street addresses of respondents, will be available for public review at the Vernal Field Office located in Vernal, Utah during regular business hours 7:30 a.m. to 4:30 p.m., Monday through Friday, except holidays , and may be published as part of the EIS. Individual respondents may request confidentially. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Duane De Paepe, Telephone 435-781-4403, or e-mail ddepaepe@ut.blm.gov.

SUPPLEMENTARY INFORMATION: The management of BLM public lands and resources encompassed by the project area is directed and guided by the BLM's Record of Decision for the Diamond Mountain Resource Management Plan. The majority of the proposed project lies within an area that was previously partially developed for oil and gas production and is designated as Category 2 for oil and gas leasing by the BLM. Category 2 areas are those that are open to oil and gas leasing with stipulations to protect sensitive surface resources.

Authority: Pub. L. 94-579, 43 CFR 8364.1.

Dated: March 18, 2002.
Sally Wisely,
State Director.

[FR Doc. 02-11435 Filed 5-7-02; 8:45 am]

BILLING CODE 4310-$$-P